DEPARTMENT OF COMMERCE

International Trade Administration

[A-570-970]

Multilayered Wood Flooring From the People's Republic of China: Final Results of Antidumping Duty New Shipper Reviews; 2012-2013

AGENCY: Enforcement and Compliance, International Trade Administration, Department of Commerce.

DATES: Effective Date: November 7, 2014.

SUMMARY: On June 12, 2014, the Department of Commerce (“Department”) published the preliminary results of antidumping duty new shipper reviews of multilayered wood flooring (“MLWF”) from the People's Republic of China (“PRC”).¹ We invited interested parties to comment on our preliminary results. Following our analysis of the comments, we made no changes to our preliminary margin calculations for new shippers Dalian Huade Wood Product Co., Ltd. (“Huade”), Linyi Bonn Flooring Manufacturing Co., Ltd. (“Bonn Flooring”), and Zhejiang Fuerjia Wooden Co., Ltd. (“Fuerjia”), and we continue to find that Huade, Bonn Flooring, and Fuerjia did not make sales of subject merchandise at less than normal value.

¹ See Multilayered Wood Flooring From the People's Republic of China; Preliminary Results of Antidumping Duty New Shipper Reviews; 2012-2013, 79 FR 33723 (June 12, 2014) (“Preliminary Results”).

FOR FURTHER INFORMATION CONTACT: Magd Zalok or James Martinelli, AD/CVD Operations, Office IV, Enforcement and Compliance, International Trade Administration, U.S. Department of Commerce, 14th Street and Constitution Avenue NW., Washington, DC 20230; telephone: (202) 482-4162 or (202) 482-2923, respectively.

SUPPLEMENTARY INFORMATION:

Case History

The Department published the Preliminary Results on June 12, 2014.² On July 14, 2014, The Coalition for American Hardwood Parity (“CAHP”) submitted its case brief, and on July 21, 2014, Bonn Flooring submitted a rebuttal brief.

² Also adopted as part of the preliminary results was the Memorandum to Paul Piquado entitled “Decision Memorandum for Preliminary Results of Antidumping Duty New Shipper Review: Multilayered Wood Flooring from the People's Republic of China,” dated June 6, 2014 (“Preliminary Decision Memorandum”).

Period of Review

The period of review (“POR”) for Bonn Flooring and Fuerjia is December 1, 2012 through May 31, 2013. The POR for Huade is December 1, 2012 through June 30, 2013.³ Huade's sale of subject merchandise was made during the POR specified by the Department's regulations, but the shipment entered within thirty days after the end of that POR. When the sale of the subject merchandise occurs within the POR specified by the Department's regulations, but the entry occurs after the POR, the specified POR may be extended unless it would be likely to prevent the completion of the review within the time limits set by the Department's regulations.⁴ This POR corresponds to the period from the date of suspension of liquidation to the end of the month immediately preceding the first semiannual anniversary month pursuant to 19 CFR 351.214(g)(1)(ii)(B).

³ See Multilayered Wood Flooring from the People's Republic of China: Initiation of Antidumping New Shipper Reviews; 2012-2013, 78 FR 46318 (July 31, 2013) for an explanation of the different PORs.

⁴ See 19 CFR 351.214(f)(2)(ii).

Scope of the Order

The merchandise covered by the order includes MLWF, subject to certain exceptions.⁵ The subject merchandise is currently classifiable under Harmonized Tariff Schedule of the United States (“HTSUS”) subheadings: 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; and 4418.72.9500; and 9801.00.2500.

⁵ For a complete description of the Scope of the Order, see Memorandum to Ronald K. Lorentzen entitled “Issues and Decision Memorandum for the Final Results in the Antidumping Duty New Shipper Review, 2012-2013: Multilayered Wood Flooring from the People's Republic of China,” dated November 3, 2014 (“Issues and Decision Memorandum”).

The HTSUS subheadings are provided for convenience and customs purposes only; the written description of the scope of the order is dispositive.

Analysis of Comments Received

All issues raised in the case and rebuttal briefs by parties to these new shipper reviews are addressed in the Issues and Decision Memorandum, which is hereby adopted by this notice. A list of the issues which parties raised and to which we respond in the Issues and Decision Memorandum is attached to this notice as an Appendix. The Issues and Decision Memorandum is a public document and is on file electronically via Enforcement and Compliance's Antidumping and Countervailing Duty Centralized Electronic Service System (IA ACCESS). Access to IA ACCESS is available to registered users at http://iaaccess.trade.gov and in the Central Records Unit, Room 7046 of the main Department of Commerce building. In addition, a complete version of the Issues and Decision Memorandum can be accessed directly on the Internet at http://enforcement.trade.gov/frn/index.html. The signed Issues and Decision Memorandum and the electronic versions of the Issues and Decision Memorandum are identical in content.

Final Results Margin

The Department finds that the following weighted-average dumping margin exists:

Exporter | Producer | Weighted- average dumping margin (percent)
Dalian Huade Wood Product Co., Ltd | Dalian Huade Wood Product Co., Ltd | 0.00
Linyi Bonn Flooring Manufacturing Co., Ltd | Linyi Bonn Flooring Manufacturing Co., Ltd | 0.00
Zhejiang Fuerjia Wooden Co., Ltd | Zhejiang Fuerjia Wooden Co., Ltd | 0.00

Disclosure

We intend to disclose to parties the calculations performed in this proceeding within five days of the date of publication of this notice in accordance with 19 CFR 351.224(b).

Assessment

Upon issuance of the final results, the Department will determine, and U.S. Customs and Border Protection (“CBP”) shall assess, antidumping duties on all appropriate entries in accordance with 19 CFR 351.212(b). The Department intends to issue assessment instructions to CBP 15 days after the date of publication of the final results of review. Where either the respondent's weighted-average dumping margin is zero or de minimis, or an importer-specific assessment rate is zero or de minimis, we will instruct CBP to liquidate the appropriate entries without regard to antidumping duties. For entries that were not reported in the U.S. sales databases submitted by the companies individually examined during these reviews, the Department will instruct CBP to liquidate such entries at the NME-wide rate.⁶

⁶ For a full discussion of this practice, see Non-Market Economy Antidumping Proceedings: Assessment of Antidumping Duties, 76 FR 65694 (October 24, 2011).

Cash Deposit Requirements

The following cash deposit requirements will be effective upon publication of the final results of these new shipper reviews for shipments of the subject merchandise from the PRC entered, or withdrawn from warehouse, for consumption on or after the publication date, as provided for by section 751(a)(2)(C) of the Tariff Act of 1930, as amended (the “Act”): (1) For the exporter/producer combinations listed above, the cash deposit rate will be 0.00 percent and (2) for subject merchandise exported by Bonn Flooring, Fuerjia, or Huade but not self-produced by the respective exporters, the cash deposit rate will be the PRC-wide rate of 58.84 percent.

Notification to Importers

This notice also serves as a final reminder to importers of their responsibility under 19 CFR 351.402(f)(2) to file a certificate regarding the reimbursement of antidumping duties prior to liquidation of the relevant entries during these PORs. Failure to comply with this requirement could result in the Secretary's presumption that reimbursement of the antidumping duties occurred and the subsequent assessment of double antidumping duties.

Notification Regarding APO

This notice also serves as a reminder to the parties subject to administrative protective order (“APO”) of their responsibility concerning the disposition of business proprietary information (“BPI”) disclosed under APO in accordance with 19 CFR 351.305(a)(3), which continues to govern BPI in this segment of the proceeding. Timely notification of return or destruction of APO materials or conversion to judicial protective order is hereby requested. Failure to comply with the regulations and terms of an APO is a sanctionable violation.

This determination is issued and published in accordance with sections 751(a)(2)(B) and 777(i) of the Act.

Dated: October 31, 2014.
Ronald K. Lorentzen,
Acting Assistant Secretary for Enforcement and Compliance.

Appendix—Issue for Final Results

Summary

Background

Scope of the Order

List of Abbreviations and Acronyms

Discussion of the Issue

Issue: Selection of Surrogate Value for Bonn Flooring's Face Veneers

Recommendation

Table of Shortened Citations

[FR Doc. 2014-26561 Filed 11-6-14; 8:45 am]

BILLING CODE 3510-DS-P